DEPARTMENT OF TRANSPORTATION

Federal Railroad Administration

[Docket No. FRA-2022-0002-N-7]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA will seek approval of the Information Collection Request (ICR) abstracted below. Before submitting this ICR to the Office of Management and Budget (OMB) for approval, FRA is soliciting public comment on specific aspects of the activities identified in the ICR.

DATES: Interested persons are invited to submit comments on or before June 27, 2022.

ADDRESSES: Written comments and recommendations for the proposed ICR should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: Hodan.Wells@dot.gov or telephone: (202) 493-0440, or Ms. Stephanie Anderson, Attorney Adviser, at email: Stephanie.Anderson@dot.gov or telephone: (202) 493-0445.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Positive Train Control (PTC) and Other Signal Systems.

OMB Control Number: 2130-0553.

Abstract: On November 15, 2021, President Joseph R. Biden signed into law the Infrastructure Investment and Jobs Act (IIJA).¹ Section 22414 of the Passenger Rail Expansion and Rail Safety Act of 2021, part of the IIJA, impacts FRA's existing Form FRA F 6180.152, the Biannual Report of PTC System Performance, which is one part of the existing information collection request under OMB Control No. 2130-0553. Section 22414 of the IIJA establishes the same reporting requirement as FRA's existing regulations, using the same FRA form number (Form FRA F 6180.152) and content requirements. 49 U.S.C. 20157(m); 49 CFR 236.1029(h). However, the statutory reporting cadence is quarterly, not biannual as FRA's regulations currently require.

¹ Infrastructure Investment and Jobs Act, Public Law 117-58, 135 Stat. 429 (Nov. 15, 2021). The IIJA was funded in relevant part by the Consolidated Appropriations Act of 2022, which was signed into law on March 15, 2022.

During a recent rulemaking, FRA collected public comment on this reporting requirement. See 85 FR 82400 (Dec. 18, 2020) (Notice of Proposed Rulemaking); 86 FR 40154 (July 27, 2021) (Final Rule) (amending 49 CFR 236.1029(h) and creating Form FRA F 6180.152). During the comment period, FRA received seven sets of generally supportive comments from the following entities and individuals: The American Public Transportation Association; the Association of American Railroads and the American Short Line and Regional Railroad Association (jointly filed); the National Railroad Passenger Corporation (Amtrak); New Jersey Transit; and two individuals.

Feedback from the public and industry has already been incorporated into the existing Form FRA F 6180.152 that OMB approved in October 2021. See 49 CFR 236.1029(h). The substance of the form remains unchanged in light of the statutory requirements IIJA imposes, as the content required by FRA's existing regulations and Section 22414 of the IIJA are identical in substance. To implement Section 22414 of the IIJA, as codified at 49 U.S.C. 20157(m), the existing OMB-approved Form FRA F 6180.152 would need to be modified only to refer to the new quarterly reporting frequency.

Accordingly, FRA is hereby proposing to modify Form FRA F 6180.152 to align with the statutory quarterly framework under 49 U.S.C. 20157(m). The modified form would refer to the following quarterly reporting deadlines under 49 U.S.C. 20157(m)(3): April 30 (covering the period from January 1 to March 31), July 31 (covering the period from April 1 to June 30), October 31 (covering the period from July 1 to September 30), and January 31 (covering the period from October 1 to December 31 of the prior calendar year). See 49 U.S.C. 20157(m)(3). To be clear, in the interim, before OMB approves these statutory modifications to Form FRA F 6180.152, host railroads would continue to comply with the following biannual reporting deadlines for Form FRA F 6180.152 under FRA's existing regulations, 49 CFR 236.1029(h)(3): July 31 (covering the period from January 1 to June 30), and January 31 (covering the period from July 1 to December 31 of the prior calendar year). Railroads would transition to the quarterly frequency once OMB approves the modified Form FRA F 6180.152.

The only other modification FRA proposes to make to Form FRA F 6180.152 is to lock the formatting of instructions and headings in the form so users cannot manipulate those components of the form. FRA is placing the proposed, modified Form FRA F 6180.152 in Docket No. FRA-2022-0002 for review and interested persons are invited to submit comments on or before June 27, 2022.

For a detailed discussion regarding the reporting metrics in the proposed Quarterly Report of PTC System Performance (Form FRA F 6180.152), please see FRA's Final Rule outlining the comments received and corresponding content requirements under 49 CFR 236.1029(h). See 86 FR 40154, 40157-59, 40163-68 (July 27, 2021); see also 49 U.S.C. 20157(m). FRA may not alter the existing reporting requirements in Form FRA F 6180.152 as they are now statutorily mandated. As a reminder, modified Form FRA F 6180.152 would be identical in substance to existing, OMB-approved Form FRA F 6180.152 (Biannual Report of PTC System Performance) that the public commented on during the 2020-2021 PTC rulemaking. See 85 FR 82400 (Dec. 18, 2020) (Notice of Proposed Rulemaking); 86 FR 40154 (July 27, 2021) (Final Rule). The only material changes to Form FRA F 6180.152 FRA is proposing are those necessary to shift from the biannual framework under FRA's regulations, 49 CFR 236.1029(h), to the new quarterly framework under 49 U.S.C. 20157(m)(3).

Under the currently approved biannual framework, FRA estimated that each performance report (Form FRA F 6180.152), covering a six-month period, would take 48 hours to prepare. See 86 FR at 40169-71. Under the new statutory quarterly framework, FRA estimates that, on average, each report, covering a shorter period (three months), would take 32 hours to prepare. This estimate is based on the fact that under the quarterly framework, the reporting period would be half as long and, correspondingly, it would take approximately half as long (i.e., 24 hours) to compile the performance-related data for that period, plus an additional 8 hours to account for any additional administrative burdens in completing the form. Railroads will collect, analyze, and report 365 days' worth of data about their PTC systems' performance under either reporting framework (biannual or quarterly), and FRA estimates that shifting the frequency from biannual (under the existing regulation) to quarterly (under the recent legislation) would result in an increase of 73 reports per year and a burden increase of 1,168 hours total.

In addition, FRA notes that the Statutory Notification of PTC System Failures (Form FRA F 6180.177) expired by law on December 31, 2021, so FRA proposes to remove that form from this information collection request. See 49 U.S.C. 20157(j). That adjustment would result in a decrease of 144 reports per year and a burden decrease of 144 hours. In summary, FRA proposes two changes to the PRA table—i.e., revising one line item (Form FRA F 6180.152) due to a program change and removing one line item (Form FRA F 6180.177) as it is no longer required by law and the burden associated with this requirement has been completed.

Type of Request: Revision to a currently approved collection.

Affected Public: Businesses.

Form(s): FRA F 6180.152.

Respondent Universe: 742 railroads.

Frequency of Submission: On occasion.

Reporting Burden:

CFR section/subject ² | Respondent universe | Total annual responses | Average time per response | Total annual burden hours | Total annual dollar cost equivalent ³
235.6(c)—Expedited application for approval of certain changes described in this section | 42 railroads | 10 expedited applications | 5 hours | 50 | $3,850
—Copy of expedited application to labor union | 42 railroads | 10 copies | 30 minutes | 5 | 385
—Railroad letter rescinding its request for expedited application of certain signal system changes | 42 railroads | 1 letter | 6 hours | 6 | 462
—Revised application for certain signal system changes | 42 railroads | 1 application | 5 hours | 0.5 | 385
—Copy of railroad revised application to labor union | 42 railroads | 1 copy | 30 minutes | 0.5 | 39
236.1—Railroad-maintained signal plans at all interlockings, automatic signal locations, and controlled points, and updates to ensure accuracy | 700 railroads | 25 plan changes | 15 minutes | 6.25 | 481
236.15—Designation of automatic block, traffic control, train stop, train control, cab signal, and PTC territory in timetable instructions | 700 railroads | 10 timetable instructions | 30 minutes | 5 | 385
236.18—Software management control plan—New railroads | 2 railroads | 2 plans | 160 hours | 320 | 24,640
236.23(e)—The names, indications, and aspects of roadway and cab signals shall be defined in the carrier's Operating Rule Book or Special Instructions. Modifications shall be filed with FRA within 30 days after such modifications become effective | 700 railroads | 2 modifications | 1 hour | 2 | 154
236.587(d)—Certification and departure test results | 742 railroads | 4,562,500 train departures | 5 seconds | 6,336.81 | 487,934
236.905(a)—Railroad Safety Program Plan (RSPP)—New railroads | 2 railroads | 2 RSPPs | 40 hours | 80 | 6,160
236.913(a)—Filing and approval of a joint Product Safety Plan (PSP) | 742 railroads | 1 joint plan | 2,000 hours | 2,000 | 240,000
(c)(1)—Informational filing/petition for special approval | 742 railroads | 0.5 filings/approval petitions | 50 hours | 25 | 1,925
(c)(2)—Response to FRA's request for further data after informational filing | 742 railroads | 0.25 data calls/documents | 5 hours | 1.25 | 96
(d)(1)(ii)—Response to FRA's request for further information within 15 days after receipt of the Notice of Product Development (NOPD) | 742 railroads | 0.25 data calls/documents | 1 hour | 0.25 | 19
(d)(1)(iii)—Technical consultation by FRA with the railroad on the design and planned development of the product | 742 railroads | 0.25 technical consultations | 5 hours | 1.25 | 96
(d)(1)(v)—Railroad petition to FRA for final approval of NOPD | 742 railroads | 0.25 petitions | 1 hour | 0.25 | 19
(d)(2)(ii)—Response to FRA's request for additional information associated with a petition for approval of PSP or PSP amendment | 742 railroads | 1 request | 50 hours | 50 | 3,850
(e)—Comments to FRA on railroad informational filing or special approval petition | 742 railroads | 0.5 comments/letters | 10 hours | 5 | 385
(h)(3)(i)—Railroad amendment to PSP | 742 railroads | 2 amendments | 20 hours | 40 | 3,080
(j)—Railroad field testing/information filing document | 742 railroads | 1 field test document | 100 hours | 100 | 7,700
236.917(a)—Railroad retention of records: results of tests and inspections specified in the PSP | 13 railroads with PSP | 13 PSP safety results | 160 hours | 2,080 | 160,160
(b)—Railroad report that frequency of safety-relevant hazards exceeds threshold set forth in PSP | 13 railroads | 1 report | 40 hours | 40 | 3,080
(b)(3)—Railroad final report to FRA on the results of the analysis and countermeasures taken to reduce the frequency of safety-relevant hazards | 13 railroads | 1 report | 10 hours | 10 | 770
236.919(a)—Railroad Operations and Maintenance Manual (OMM) | 13 railroads | 1 OMM update | 40 hours | 40 | 3,080
(b)—Plans for proper maintenance, repair, inspection, and testing of safety-critical products | 13 railroads | 1 plan update | 40 hours | 40 | 3,080
(c)—Documented hardware, software, and firmware revisions in OMM | 13 railroads | 1 revision | 40 hours | 40 | 3,080
236.921 and 923(a)—Railroad Training and Qualification Program | 13 railroads | 1 program | 40 hours | 40 | 3,080
236.923(b)—Training records retained in a designated location and available to FRA upon request | 13 railroads | 350 records | 10 minutes | 58.33 | 4,491
236.1001(b)—A railroad's additional or more stringent rules than prescribed under 49 CFR part 236, subpart I | 38 railroads | 1 rule or instruction | 40 hours | 40 | 4,800
236.1005(b)(4)(i)-(ii)—A railroad's submission of estimated traffic projections for the next 5 years, to support a request, in a PTC Implementation Plan (PTCIP) or a request for amendment (RFA), not to implement a PTC system based on reductions in rail traffic | The burden is accounted for under 49 CFR 236.1009(a) and 236.1021.
(b)(4)(iii)—A railroad's request for a de minimis exception, in a PTCIP or an RFA, based on a minimal quantity of poisonous-by-inhalation materials traffic | 7 Class I railroads | 1 exception request | 40 hours | 40 | 3,080
(b)(5)—A railroad's request to remove a line from its PTCIP based on the sale of the line to another railroad and any related request for FRA review from the acquiring railroad | The burden is accounted for under 49 CFR 236.1009(a) and 236.1021.
(g)(1)(i)—A railroad's request to temporarily reroute trains not equipped with a PTC system onto PTC-equipped tracks and vice versa during certain emergencies | 38 railroads | 45 rerouting extension requests | 8 hours | 360 | 27,720
(g)(1)(ii)—A railroad's written or telephonic notice of the conditions necessitating emergency rerouting and other required information under 236.1005(i) | 38 railroads | 45 written or telephonic notices | 2 hours | 90 | 6,930
(g)(2)—A railroad's temporary rerouting request due to planned maintenance not exceeding 30 days | 38 railroads | 720 requests | 8 hours | 5,760 | 443,520
(h)(1)—A response to any request for additional information from FRA, prior to commencing rerouting due to planned maintenance | 38 railroads | 10 requests | 2 hours | 20 | 1,540
(h)(2)—A railroad's request to temporarily reroute trains due to planned maintenance exceeding 30 days | 38 railroads | 160 requests | 8 hours | 1,280 | 98,560
236.1006(b)(4)(iii)(B)—A progress report due by December 31, 2020, and by December 31, 2022, from any Class II or III railroad utilizing a temporary exception under this section | 262 railroads | 5 reports | 16 hours | 80 | 6,160
(b)(5)(vii)—A railroad's request to utilize different yard movement procedures, as part of a freight yard movements exception | The burden is accounted for under 49 CFR 236.1015 and 236.1021.
236.1007(b)(1)—For any high-speed service over 90 miles per hour (mph), a railroad's PTC Safety Plan (PTCSP) must additionally establish that the PTC system was designed and will be operated to meet the fail-safe operation criteria in appendix C | The burden is accounted for under 49 CFR 236.1015 and 236.1021.
(c)—An HSR-125 document accompanying a host railroad's PTCSP, for operations over 125 mph | 38 railroads | 1 HSR-125 document | 3,200 hours | 3,200 | 384,000
(c)(1)—A railroad's request for approval to use foreign service data, prior to submission of a PTCSP | 38 railroads | 0.33 requests | 8,000 hours | 2,640 | 203,280
(d)—A railroad's request in a PTCSP that FRA excuse compliance with one or more of this section's requirements | 38 railroads | 1 request | 1,000 hours | 1,000 | 120,000
236.1009(a)(2)—A PTCIP if a railroad becomes a host railroad of a main line requiring the implementation of a PTC system, including the information under 49 U.S.C. 20157(a)(2) and 49 CFR 236.1011 | 264 railroads | 1 PTCIP | 535 hours | 535 | 64,200
(a)(3)—Any new PTCIPs jointly filed by a host railroad and a tenant railroad | 264 railroads | 1 joint PTCIP | 267 hours | 267 | 32,040
(b)(1)—A host railroad's submission, individually or jointly with a tenant railroad or PTC system supplier, of an unmodified Type Approval | 264 railroads | 1 document | 8 hours | 8 | 616
(b)(2)—A host railroad's submission of a PTC Development Plan (PTCDP) with the information required under 49 CFR 236.1013, requesting a Type Approval for a PTC system that either does not have a Type Approval or has a Type Approval that requires one or more variances | 264 railroads | 1 PTCDP | 2,000 hours | 2,000 | 154,000
(d)—A host railroad's submission of a PTCSP | The burdens are accounted for under 49 CFR 236.1015.
(e)(3)—Any request for full or partial confidentiality of a PTCIP, Notice of Product Intent (NPI), PTCDP, or PTCSP | 38 railroads | 10 confidentiality requests | 8 hours | 80 | 6,160
(h)—Any responses or documents submitted in connection with FRA's use of its authority to monitor, test, and inspect processes, procedures, facilities, documents, records, design and testing materials, artifacts, training materials and programs, and any other information used in the design, development, manufacture, test, implementation, and operation of the PTC system, including interviews with railroad personnel | 38 railroads | 36 interviews and documents | 4 hours | 144 | 11,088
(j)(2)(iii)—Any additional information provided in response to FRA's consultations or inquiries about a PTCDP or PTCSP | 38 railroads | 1 set of additional information | 400 hours | 400 | 30,800
236.1011(a)-(b)—PTCIP content requirements | The burdens are accounted for under 49 CFR 236.1009(a) and (e) and 236.1021.
(e)—Any public comment on PTCIPs, NPIs, PTCDPs, and PTCSPs | 38 railroads | 2 public comments | 8 hours | 16 | 1,232
236.1013—PTCDP and NPI content requirements | The burdens are accounted for under 49 CFR 236.1009(b), (c), and (e) and 236.1021.
236.1015—Any new host railroad's PTCSP meeting all content requirements under 49 CFR 236.1015 | 264 railroads | 1 PTCSP | 8,000 hours | 8,000 | 616,000
(g)—A PTCSP for a PTC system replacing an existing certified PTC system | 38 railroads | 0.33 PTCSPs | 3,200 hours | 1,056 | 81,312
(h)—A quantitative risk assessment, if FRA requires one to be submitted | 38 railroads | 0.33 assessments | 800 hours | 264 | 20,328
236.1017(a)—An independent third-party assessment, if FRA requires one to be conducted and submitted | 38 railroads | 0.33 assessments | 1,600 hours | 528 | 63,360
(b)—A railroad's written request to confirm whether a specific entity qualifies as an independent third party | 38 railroads | 0.33 written requests | 8 hours | 2.64 | 203
—Further information provided to FRA upon request | 38 railroads | 0.33 sets of additional information | 20 hours | 6.6 | 508
(d)—A request not to provide certain documents otherwise required under Appendix F for an independent, third-party assessment | 38 railroads | 0.33 requests | 20 hours | 6.6 | 508
(e)—A request for FRA to accept information certified by a foreign regulatory entity for purposes of 49 CFR 236.1017 and/or 236.1009(i) | 38 railroads | 0.33 requests | 32 hours | 10.56 | 813
236.1019(b)—A request for a passenger terminal main line track exception (MTEA) | 38 railroads | 1 MTEA | 160 hours | 160 | 12,320
(c)(1)—A request for a limited operations exception (based on restricted speed, temporal separation, or a risk mitigation plan) | 38 railroads | 1 request and/or plan | 160 hours | 160 | 12,320
(c)(2)—A request for a limited operations exception for a non-Class I, freight railroad's track | 10 railroads | 1 request | 160 hours | 160 | 12,320
(c)(3)—A request for a limited operations exception for a Class I railroad's track | 7 railroads | 1 request | 160 hours | 160 | 12,320
(d)—A railroad's collision hazard analysis in support of an MTEA, if FRA requires one to be conducted and submitted | 38 railroads | 0.33 collision hazard analysis | 50 hours | 16.5 | 1,271
(e)—Any temporal separation procedures utilized under the 49 CFR 236.1019(c)(1)(ii) exception | The burdens are accounted for under 49 CFR 236.1019(c)(1).
236.1021(a)-(d)—Any RFA to a railroad's PTCIP or PTCDP | 38 railroads | 10 RFAs | 160 hours | 1,600 | 123,200
(e)—Any public comments, if an RFA includes a request for approval of a discontinuance or material modification of a signal or train control system and a Federal Register notice is published | 5 interested parties | 10 RFA public comments | 16 hours | 160 | 12,320
(l)—Any jointly filed RFA to a PTCDP or PTCSP | The burdens are accounted for under 49 CFR 236.1021(a)-(d) and (m).
(m)—Any RFA to a railroad's PTCSP | 38 railroads | 15 RFAs | 80 hours | 1,200 | 92,400
236.1023(a)—A railroad's PTC Product Vendor List, which must be continually updated | 38 railroads | 2 updated lists | 8 hours | 16 | 1,232
(b)(1)—All contractual arrangements between a railroad and its hardware and software suppliers or vendors for certain immediate notifications | The burdens are accounted for under 49 CFR 236.1015 and 236.1021.
(b)(2)-(3)—A vendor's or supplier's notification, upon receipt of a report of any safety-critical failure of its product, to any railroads using the product | 10 vendors or suppliers | 10 notifications | 8 hours | 80 | 6,160
(c)(1)-(2)—A railroad's process and procedures for taking action upon being notified of a safety-critical failure or a safety-critical upgrade, patch, revision, repair, replacement, or modification, and a railroad's configuration/revision control measures, set forth in its PTCSP | The burdens are accounted for under 49 CFR 236.1015 and 236.1021.
(d)—A railroad's submission, to the applicable vendor or supplier, of the railroad's procedures for action upon notification of a safety-critical failure, upgrade, patch, or revision to the PTC system and actions to be taken until it is adjusted, repaired, or replaced | 38 railroads | 2.5 notifications | 16 hours | 40 | 3,080
(e)—A railroad's database of all safety-relevant hazards, which must be maintained after the PTC system is placed in service | 38 railroads | 38 database updates | 16 hours | 608 | 46,816
(e)(1)—A railroad's notification to the vendor or supplier and FRA if the frequency of a safety-relevant hazard exceeds the threshold set forth in the PTCDP and PTCSP, and about the failure, malfunction, or defective condition that decreased or eliminated the safety functionality | 38 railroads | 8 notifications | 8 hours | 64 | 4,928
(e)(2)—Continual updates about any and all subsequent failures | 38 railroads | 1 update | 8 hours | 8 | 616
(f)—Any notifications that must be submitted to FRA under 49 CFR 236.1023 | The burdens are accounted for under 49 CFR 236.1023(e), (g), and (h).
(g)—A railroad's and vendor's or supplier's report, upon FRA request, about an investigation of an accident or service difficulty due to a manufacturing or design defect and their corrective actions | 38 railroads | 0.5 reports | 40 hours | 20 | 1,540
(h)—A PTC system vendor's or supplier's reports of any safety-relevant failures, defective conditions, previously unidentified hazards, recommended mitigation actions, and any affected railroads | 10 vendors or suppliers | 20 reports | 8 hours | 160 | 12,320
(k)—A report of a failure of a PTC system resulting in a more favorable aspect than intended or other condition hazardous to the movement of a train, including the reports required under part 233 | The burdens are accounted for under 49 CFR 236.1023(e), (g), and (h) and 49 CFR part 233.
236.1029(b)(4)—A report of an en route failure, other failure, or cut out to a designated railroad officer of the host railroad | 150 host and tenant railroads | 1,000 reports | 30 minutes | 500 | 38,500
Form FRA F 6180.152—49 U.S.C. 20157(m) and 49 CFR 236.1029(h)—Quarterly Report of PTC System Performance (*Revised requirement and updated form*) | 38 railroads | 146 reports | 32 hours | 4,672 | 359,744
236.1033—Communications and security requirements | The burdens are accounted for under 49 CFR 236.1009 and 236.1015.
236.1035(a)-(b)—A railroad's request for authorization to field test an uncertified PTC system and any responses to FRA's testing conditions | 38 railroads | 10 requests | 40 hours | 400 | 30,800
236.1037(a)(1)-(2)—Records retention | The burdens are accounted for under 49 CFR 236.1009 and 236.1015.
(a)(3)-(4)—Records retention | The burdens are accounted for under 49 CFR 236.1039 and 236.1043(b).
(b)—Results of inspections and tests specified in a railroad's PTCSP and PTCDP | 38 railroads | 800 records | 1 hour | 800 | 61,600
(c)—A contractor's records related to the testing, maintenance, or operation of a PTC system maintained at a designated office | 20 contractors | 1,600 records | 10 minutes | 266.67 | 20,534
(d)(3)—A railroad's final report of the results of the analysis and countermeasures taken to reduce the frequency of safety-related hazards below the threshold set forth in the PTCSP | 38 railroads | 8 final reports | 160 hours | 1,280 | 98,560
236.1039(a)-(c), (e)—A railroad's PTC OMM, which must be maintained and available to FRA upon request | 38 railroads | 2 OMM updates | 10 hours | 20 | 1,540
(d)—A railroad's identification of a PTC system's safety-critical components, including spare equipment | 38 railroads | 1 identified new component | 1 hour | 1 | 77
236.1041(a)-(b) and 236.1043(a)—A railroad's PTC Training and Qualification Program (i.e., a written plan) | 38 railroads | 2 programs | 10 hours | 20 | 1,540
236.1043(b)—Training records retained in a designated location and available to FRA upon request | 150 host and tenant railroads | 150 PTC training record databases | 1 hour | 150 | 11,550
Total | N/A | 4,567,826 responses | N/A | 51,993 | 4,329,155

Total Estimated Annual Responses: 4,567,826.

² The current inventory exhibits a total burden of 50,969 hours and 4,567,897 responses, while the total burden in this notice is 51,993 hours and 4,567,826 responses. The change in burden is due both to a program change (an increase) and one adjustment (a decrease) as described above in the abstract section.

³ The dollar equivalent cost is derived from the 2019 STB Full Year Wage A&B data series using the appropriate employee group hourly wage rate that includes a 75-percent overhead charge. For Executives, Officials, and Staff Assistants, this cost amounts to $120 per hour. For Professional/Administrative staff, this cost amounts to $77 per hour.

Total Estimated Annual Burden: 51,993 hours.

Total Estimated Annual Burden Hour Dollar Cost Equivalent: $4,329,155.

FRA informs all interested parties that it may not conduct or sponsor, and a respondent is not required to respond to, a collection of information that does not display a currently valid OMB control number.

Authority: 44 U.S.C. 3501-3520; 49 U.S.C. 20157.

Brett A. Jortland,
Deputy Chief Counsel.

[FR Doc. 2022-09142 Filed 4-27-22; 8:45 am]

BILLING CODE 4910-06-P